DEPARTMENT OF ENERGY

Federal Energy Regulatory Commission

Combined Notice of Filings # 2

February 5, 2009.

Take notice that the Commission received the following electric corporate filings:

Docket Numbers: EC09-36-000; EC09-37-000; EC09-38-000; EC09-39-000; EC09-40-000; EC09-41-000; EC09-42-000; EC09-43-000; EC09-44-000; EC09-45-000; EC09-46-000.

Applicants: EDF Development, Inc., Constellation Energy Group, Inc., Handsome Lake Energy, LLC.

Description: Clarification of Applications of EDF Development, Inc.

Filed Date: 02/04/2009.

Accession Number: 20090204-5096.

Comment Date: 5 p.m. Eastern Time on Friday, February 13, 2009.

Take notice that the Commission received the following electric rate filings:

Docket Numbers: ER99-1435-017.

Applicants: Avista Corporation.

Description: Avista Corporation submits Revised Sheet 5 et al. to FERC Electric Tariff, Seventh Revised Volume 9.

Filed Date: 01/29/2009.

Accession Number: 20090202-0543.

Comment Date: 5 p.m. Eastern Time on Thursday, February 19, 2009.

Docket Numbers: ER01-989-007.

Applicants: Green Mountain Power Corporation.

Description: Non-Material Change-in-Status Report of Green Mountain Power Corporation.

Filed Date: 02/03/2009.

Accession Number: 20090203-5152.

Comment Date: 5 p.m. Eastern Time on Tuesday, February 24, 2009.

Docket Numbers: ER01-2317-007; ER05-1469-001.

Applicants: DTE East China, LLC, Metro Energy, LLC.

Description: DTE East China, LLC et al. submits First Revised Sheet 1 et al. to FERC Electric Tariff, Original Volume 4.

Filed Date: 01/29/2009.

Accession Number: 20090203-0170.

Comment Date: 5 p.m. Eastern Time on Thursday, February 19, 2009.

Docket Numbers: ER02-2536-006; ER04-925-020.

Applicants: Bank of America, N.A., Merrill Lynch Commodities, Inc.

Description: Bank of America, N.A. and Merrill Lynch Commodities, Inc. submits Joint Notification of Non-Material Change in Status and Tariff Revisions.

Filed Date: 01/29/2009.

Accession Number: 20090203-0002.

Comment Date: 5 p.m. Eastern Time on Thursday, February 19, 2009.

Docket Numbers: ER04-805-009.

Applicants: Wabash Valley Power Association, Inc.

Description: Supplement to December 29, 2008 Filing of Updated Market Power Analysis of Wabash Valley Power Association.

Filed Date: 02/03/2009.

Accession Number: 20090203-5016.

Comment Date: 5 p.m. Eastern Time on Tuesday, February 24, 2009.

Docket Numbers: ER05-6-108; EL04-135-112; EL02-111-129; EL03-212-125.

Applicants: Ameren Services Company, Midwest Independent Transmission System Operator, Inc.

Description: Midwest Independent Transmission System Operator, Inc. et al. submits proposed revisions to the Joint Operating Agreement to comply with the Commission's 11/21/05 Order.

Filed Date: 01/28/2009.

Accession Number: 20090129-0225.

Comment Date: 5 p.m. Eastern Time on Wednesday, February 18, 2009.

Docket Numbers: ER05-717-010; ER04-374-011; ER05-721-010; ER06-1334-007; ER06-230-007; ER07-277-005; ER07-810-005; ER08-1172-004; ER08-237-004; ER99-2341-013.

Applicants: Spring Canyon Energy LLC; Judith Gap Energy LLC, Invenergy TN LLC; Hardee Power Partners Limited, Wolverine Creek Energy LLC, Spindle Hill Energy LLC; Invenergy Cannon Falls LLC; Grays Harbor Energy LLC; Forward Energy LLC, Grand Ridge Energy LLC.

Description: Spring Canyon Energy LLC et al. submits a notice of change in status under market-based rate authority.

Filed Date: 01/29/2009.

Accession Number: 20090203-0025.

Comment Date: 5 p.m. Eastern Time on Thursday, February 19, 2009.

Docket Numbers: ER06-275-004.

Applicants: Northeast Utilities Service Company.

Description: Northeast Utilities Service Company submits report on the status of NU's four major transmission project in Southwest Connecticut and accounting information on the amount of construction work in progress.

Filed Date: 02/02/2009.

Accession Number: 20090203-0172.

Comment Date: 5 p.m. Eastern Time on Monday, February 23, 2009.

Docket Numbers: ER06-615-002.

Applicants: California Independent System Operator Corporation.

Description: California Independent System Operator Corporation's Joint Quarterly Seams Report for the Fourth Quarter 2008.

Filed Date: 01/29/2009.

Accession Number: 20090129-5131.

Comment Date: 5 p.m. Eastern Time on Thursday, February 19, 2009.

Docket Numbers: ER06-754-006.

Applicants: Auburndale Power Partners, LP.

Description: Amendment to Updated Market Power Analysis of Auburndale Power Partners, LP.

Filed Date: 02/04/2009.

Accession Number: 20090204-5101.

Comment Date: 5 p.m. Eastern Time on Wednesday, February 25, 2009.

Docket Numbers: ER07-265-009; ER08-100-008; ER07-1215-008.

Applicants: Sempra Energy Trading LLC, Sempra Energy Solutions LLC, The Royal Bank of Scotland PLC.

Description: Sempra Energy Trading LLC et al. submits notice of change in status in compliance with the reporting requirements set forth in Section 35.42 of the Commission's regulations and Order 652.

Filed Date: 01/29/2009.

Accession Number: 20090203-0024.

Comment Date: 5 p.m. Eastern Time on Thursday, February 19, 2009.

Docket Numbers: ER07-1137-003.

Applicants: Lockhart Power Company.

Description: Notice of Change in Status of Lockhart Power Company.

Filed Date: 02/03/2009.

Accession Number: 20090203-5021.

Comment Date: 5 p.m. Eastern Time on Tuesday, February 24, 2009.

Docket Numbers: ER07-1223-001; ER07-1202-002; ER07-1208-002; ER07-1222-001; ER07-1246-002.

Applicants: Cow Branch Wind Power, LLC, CR Clearing, LLC, Wind Capital Holdings, LLC, Harvest WindFarm, LLC, JD WIND 4, LLC.

Description: John Deere Renewables, LLC submits Supplemental Information to the 12/23/08 Request for Classification as Category 1 Seller and Compliance Filings.

Filed Date: 02/04/2009.

Accession Number: 20090204-5027.

Comment Date: 5 p.m. Eastern Time on Wednesday, February 25, 2009.

Docket Numbers: ER08-125-005.

Applicants: Luminant Energy Company LLC.

Description: Luminant Energy Company LLC submits supplemental information to its Petition for Determination of Status as a Category I Seller Pursuant to Order 697 filed on 6/30/08.

Filed Date: 01/29/2009.

Accession Number: 20090202-0692.

Comment Date: 5 p.m. Eastern Time on Thursday, February 19, 2009.

Docket Numbers: ER08-649-007; ER07-758-009.

Applicants: EFS Parlin Holdings, LLC; Birchwood Power Partners, LP.

Description: EFS Parlin Holdings, LLC and Inland Empire Energy Center, LLC submits Substitute Original Sheet 1 and 2 to FERC Gas Tariff, First Revised Volume 1, in compliance with FERC's Order 697-A.

Filed Date: 01/28/2009.

Accession Number: 20090202-0494.

Comment Date: 5 p.m. Eastern Time on Thursday, February 12, 2009.

Docket Numbers: ER08-1285-001.

Applicants: Midwest Independent Transmission System Operator, Inc.

Description: Midwest Independent Transmission System Operator, Inc. submits revisions to its Open Access Transmission and Energy Markets Tariff, et al. in compliance with the Commission's 1/2/09 Order.

Filed Date: 02/02/2009.

Accession Number: 20090203-0168.

Comment Date: 5 p.m. Eastern Time on Monday, February 23, 2009.

Docket Numbers: ER09-207-001.

Applicants: NSTAR Electric Company.

Description: NSTAR Electric Company submits modification to the Transfer Agreement NSTAR and HQ Energy Services Inc.

Filed Date: 01/29/2009.

Accession Number: 20090202-0541.

Comment Date: 5 p.m. Eastern Time on Thursday, February 19, 2009.

Docket Numbers: ER09-438-000.

Applicants: Discount Power, Inc.

Description: Discount Power, Inc submits the Petition for Acceptance of Initial Tariff, Waivers and Blanket Authority, submitted by Discount Power, Inc.

Filed Date: 12/15/2008.

Accession Number: 20081223-0232.

Comment Date: 5 p.m. Eastern Time on Wednesday, February 25, 2009.

Docket Numbers: ER09-455-000.

Applicants: Portland General Electric Company.

Description: Portland General Electric Company submits supplement to the December 22, 2008 filing of First Revised Rate Schedule FERC 49, Long Term Power Sale Agreement with San Diego Gas & Electric Co.

Filed Date: 01/29/2009.

Accession Number: 20090202-0491.

Comment Date: 5 p.m. Eastern Time on Thursday, February 19, 2009.

Docket Numbers: ER09-585-000.

Applicants: PJM Interconnection LLC.

Description: PJM Interconnection, LLC submits amendments to the PJM Open Access Transmission Tariff and to the Amended and Restated Operating Agreement, to become effective 3/1/09.

Filed Date: 01/28/2009.

Accession Number: 20090130-0165.

Comment Date: 5 p.m. Eastern Time on Wednesday, February 18, 2009.

Docket Numbers: ER09-589-000.

Applicants: California Independent System Operator Corporation.

Description: California Independent System Operator Corporation submits amendment to the credit policy provisions of the CAISO Tariff implementing the Market Redesign and Technology Upgrade project.

Filed Date: 01/29/2009.

Accession Number: 20090202-0451.

Comment Date: 5 p.m. Eastern Time on Thursday, February 19, 2009.

Docket Numbers: ER09-590-000.

Applicants: Trans-Allegheny Interstate Line Company.

Description: Trans Allegheny Interstate Line Company submits request for authorization to implement an incentive return on equity for the replacement of autotransformers and the upgrade of associated equipment at the Kammer Substation.

Filed Date: 01/29/2009.

Accession Number: 20090202-0450.

Comment Date: 5 p.m. Eastern Time on Thursday, February 19, 2009.

Docket Numbers: ER09-592-000.

Applicants: Midwest Independent Transmission System Operator, Inc.

Description: Midwest Independent Transmission System Operator, Inc. submits a Notice of Cancellation of the Seams Operating Agreement between Midwest Independent Transmission System Operator, Inc and MAPPCOR.

Filed Date: 01/29/2009.

Accession Number: 20090202-0540.

Comment Date: 5 p.m. Eastern Time on Thursday, February 19, 2009.

Docket Numbers: ER09-593-000.

Applicants: PJM Interconnection, LLC.

Description: PJM Interconnection, LLC submits four executed interim interconnection service agreements.

Filed Date: 01/29/2009.

Accession Number: 20090202-0539.

Comment Date: 5 p.m. Eastern Time on Thursday, February 19, 2009.

Docket Numbers: ER09-602-000.

Applicants: Celeren Corporation.

Description: Celeran Corporation submits notice of cancellation of FERC Electric Tariff, effective 10/14/08.

Filed Date: 01/29/2009.

Accession Number: 20090203-0004.

Comment Date: 5 p.m. Eastern Time on Thursday, February 19, 2009.

Docket Numbers: ER09-603-000.

Applicants: American Transmission Systems, Incorporation.

Description: The Toledo Edison Company submits Wholesale Distribution Service Agreement with the Village of Holiday City, Ohio.

Filed Date: 01/29/2009.

Accession Number: 20090203-0005.

Comment Date: 5 p.m. Eastern Time on Thursday, February 19, 2009.

Docket Numbers: ER09-632-000.

Applicants: Connecticut Light & Power Company.

Description: Connecticut Light and Power Company submits notice cancelling the First Revised Service Agreement 104 by and between CL&P and Lake Road Trust.

Filed Date: 01/29/2009.

Accession Number: 20090203-0148.

Comment Date: 5 p.m. Eastern Time on Thursday, February 19, 2009.

Docket Numbers: ER09-633-000.

Applicants: SWG Colorado, LLC.

Description: SWG Colorado, LLC submits Notice of Succession notifying FERC of a corporate name change, and to adopt, as their own in every respect, the FERC Electric Tariff of Black Hills Colorado, LLC.

Filed Date: 02/02/2009.

Accession Number: 20090203-0147.

Comment Date: 5 p.m. Eastern Time on Monday, February 23, 2009.

Docket Numbers: ER09-634-000.

Applicants: AIG Energy Inc.

Description: AIG Energy Inc submits an notice of cancellation of AIGEI's First Revised Rate Schedule FERC 1.

Filed Date: 02/03/2009.

Accession Number: 20090203-0146.

Comment Date: 5 p.m. Eastern Time on Tuesday, February 24, 2009.

Docket Numbers: ER09-635-000.

Applicants: Southern Operating Companies.

Description: Southern Companies submits an amendment to Southern Operating Companies, Open Access Transmission Tariff.

Filed Date: 02/02/2009.

Accession Number: 20090203-0145.

Comment Date: 5 p.m. Eastern Time on Monday, February 23, 2009.

Docket Numbers: ER09-636-000.

Applicants: Entergy Services, Inc.

Description: Entergy Arkansas, Inc et al. submits Notice of Cancellation of Third Revised rate Schedule FERC 262 etc pursuant order 614.

Filed Date: 02/02/2009.

Accession Number: 20090203-0144.

Comment Date: 5 p.m. Eastern Time on Thursday, March 19, 2009.

Docket Numbers: ER09-637-000.

Applicants: Carolina Power & Light Company, Florida Power Corporation.

Description: Progress Energy, Inc submits proposed modifications to the Joint Open Access Transmission Tariff of CP& L and FPC pursuant to Order 676-C.

Filed Date: 01/29/2009.

Accession Number: 20090203-0175.

Comment Date: 5 p.m. Eastern Time on Thursday, February 19, 2009.

Docket Numbers: ER09-638-000.

Applicants: Xcel Energy Operating Companies.

Description: Xcel Energy Operating Companies submits Eighth Revised Sheet 48-56 et al. to FERC Electric Tariff, Original Volume 3.

Filed Date: 02/02/2009.

Accession Number: 20090203-0174.

Comment Date: 5 p.m. Eastern Time on Monday, February 23, 2009.

Docket Numbers: ER09-639-000.

Applicants: Southwest Power Pool, Inc.

Description: Southwest Power Pool, Inc. submits executed Service Agreement for Network Integration Transmission Service with Grand River Dam Authority as Network Customer, et al.

Filed Date: 02/02/2009.

Accession Number: 20090203-0173.

Comment Date: 5 p.m. Eastern Time on Monday, February 23, 2009.

Docket Numbers: ER09-641-000.

Applicants: Southern Companies, PowerSouth Energy Cooperative.

Description: Southern Companies submits a network integration transmission service agreement and the associated network operating agreement by and between PowerSouth Energy Cooperative and Southern Companies.

Filed Date: 02/02/2009.

Accession Number: 20090203-0164.

Comment Date: 5 p.m. Eastern Time on Monday, February 23, 2009.

Docket Numbers: ER09-643-000.

Applicants: New York Independent System Operator, Inc.

Description: New York Independent System Operator, Inc requests waiver of certain North American Energy Standards Board Wholesale Electric Quadrant Standards adopted by the Commission in Order 676-C.

Filed Date: 02/02/2009.

Accession Number: 20090203-0177.

Comment Date: 5 p.m. Eastern Time on Monday, February 23, 2009.

Docket Numbers: ER09-644-000.

Applicants: South Carolina Electric & Gas Company.

Description: South Carolina Electric & Gas Company submits First Revised Sheet 3 to FERC Electric Tariff, Fourth Revised Volume 5, to comply with Commission Order 676-C.

Filed Date: 02/02/2009.

Accession Number: 20090203-0176.

Comment Date: 5 p.m. Eastern Time on Monday, February 23, 2009.

Docket Numbers: ER09-645-000.

Applicants: American Electric Power Service Corporation.

Description: American Electric Power Service submits amendments to the AEP West Operating Agreement etc.

Filed Date: 02/02/2009.

Accession Number: 20090203-0166.

Comment Date: 5 p.m. Eastern Time on Monday, February 23, 2009.

Docket Numbers: ER09-650-000.

Applicants: PJM Interconnection, LLC.

Description: PJM Interconnection, LLC submits revised tariff sheets of the PJM Open Access Transmission Tariff and the Amended and Restated Operating Agreement of PJM Interconnection, LLC.

Filed Date: 02/03/2009.

Accession Number: 20090204-0088.

Comment Date: 5 p.m. Eastern Time on Tuesday, February 24, 2009.

Take notice that the Commission received the following electric securities filings:

Docket Numbers: ES09-16-000.

Applicants: The Detroit Edison Company.

Description: Application of The Detroit Edison Company for Authorization to Issue Securities.

Filed Date: 02/02/2009.

Accession Number: 20090202-5169.

Comment Date: 5 p.m. Eastern Time on Monday, February 23, 2009.

Docket Numbers: ES09-17-000.

Applicants: ITC Great Plains, LLC.

Description: Application of ITC Great Plains, LLC for Authorization to Issue Securities Under Section 204 of the Federal Power Act.

Filed Date: 02/04/2009.

Accession Number: 20090204-5052.

Comment Date: 5 p.m. Eastern Time on Wednesday, February 25, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov, or call (866) 208-3676 (toll free). For TTY, call (202) 502-8659.

Nathaniel J. Davis, Sr.,
Deputy Secretary.

CNF020509.212

[FR Doc. E9-3246 Filed 2-13-09; 8:45 am]

BILLING CODE 6717-01-P